CONSUMER PRODUCT SAFETY COMMISSION

16 CFR Parts 1112, 1130, and 1236

[CPSC Docket No. 2017-0020]

Supplemental Notice of Proposed Rulemaking To Establish a Safety Standard for Infant Sleep Products; Notice of Extension of Comment Period

AGENCY: Consumer Product Safety Commission.

ACTION: Extension of comment period.

SUMMARY: The Consumer Product Safety Commission (CPSC) published a supplemental notice of proposed rulemaking (Supplemental NPR) to promulgate a consumer product safety standard for infant sleep products (infant sleep products) in the Federal Register on November 12, 2019. The Supplemental NPR invited the public to submit written comments during a 75-day comment period, beginning on the Supplemental NPR publication date, and ending on January 27, 2020. In response to a request for an extension of the comment period, the Commission is extending the comment period by 30 days.

DATES: Submit comments by February 26, 2020.

ADDRESSES: You may submit comments, identified by Docket No. CPSC-2017-0020, electronically or in writing:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, as described above.

Written Submissions: Submit written submissions by mail/hand delivery/courier to: Division of the Secretariat, Consumer Product Safety Commission, Room 820, 4330 East-West Highway, Bethesda, MD 20814; telephone (301) 504-7923.

Instructions: All submissions received must include the agency name and docket number for this proposed rulemaking. All comments received may be posted without change, including any personal identifiers, contact information, or other personal information provided, to: http://www.regulations.gov. Do not submit electronically any confidential business information, trade secret information, or other sensitive or protected information that you do not want to be available to the public. If furnished at all, such information should be submitted in accordance with the instructions for written submissions above.

Docket: For access to the docket to read background documents or comments received, go to: http://www.regulations.gov, and insert the docket number, CPSC-2017-0020, into the “Search” box, and follow the prompts.

SUPPLEMENTARY INFORMATION: On October 25, 2019, the Commission voted to publish a Supplemental NPR in the Federal Register, to promulgate a consumer product safety standard for infant sleep products. The Supplemental NPR published on November 12, 2019, with a 75-day comment period, which closes on January 27, 2020. On January 11, 2020, Joanne E. Mattiace, from the Law Offices of Joanne E. Mattiace, submitted a request to extend the comment period by 60 days. The request states that stakeholders are “diligently working to submit comments” by January 27, 2020, however, the CPSC staff's December 12, 2019 letter to ASTM International regarding ASTM F15.18 Bassinet and Cradles and Infant Inclined Sleep Products Updates, which discusses the staff's safety concerns with in-bed sleepers and compact bassinets, has “resulted in additional issues of great importance that now need to be fully evaluated and discussed.” Ms. Mattiace requests that the Commission extend the comment period for 60 days so that stakeholders can “prepare comments of much more benefit for the agency.”

The Commission has considered this request and will grant an extension of the comment period by 30 days, until February 26, 2020.

Alberta E. Mills,
Secretary, Consumer Product Safety Commission.

[FR Doc. 2020-01413 Filed 1-27-20; 8:45 am]

BILLING CODE 6355-01-P